ENVIRONMENTAL PROTECTION AGENCY

[FRL-6861-7]

Final Reissuance of General NPDES Permits (GP) for Alaskan Mechanical Placer Mining (Permit Number AKG-37-0000) and Alaskan Medium-Size Suction Dredging (Permit Number AKG-37-1000)

AGENCY: Environmental Protection Agency, Region 10.

ACTION: Final notice of reissuance of two general permits.

SUMMARY: On June 30, 1999, two general permits regulating the activities of mechanical placer mining and suction dredge mining for gold placer mining operations in the state of Alaska expired. On January 14, 2000, EPA proposed to reissue these two general permits. There was a 60 day comment period and public hearings were held in Anchorage and Fairbanks, Alaska.

During the comment period, EPA received comments on the mechanical general permit regarding Notice of Intent (NOI) submittal, annual report submittal and monitoring frequency. A miner must submit an NOI to be covered by the GPs. EPA has changed the date that annual reports are due from November 30 for the previous mining season, to January 31 for the previous calendar year. EPA did not make any changes in monitoring frequency from those in the proposed permit.

EPA received similar comments as those described above for the medium-size suction dredge general permit. The responses outlined in the previous paragraph also apply to the medium-size suction dredge permit. EPA received additional comments relating to suction dredging including comments on suction dredge spacing, the definition of dredging operations, and the use of winches. EPA did not change the required spacing between suction dredge operations, but did define a dredging operation as one medium-size dredge or one medium-size dredge accompanied by one small (four inch or less intake) dredge. EPA also specifies how to determine if it is “apparent” that an operation has occurred nearby. EPA clarified that the prohibition on winches is on motorized winches, not on hand winches.

Other comments were received and a Response to Comments was prepared for each general permit.

At the time EPA proposed these general permits, EPA also gave notice that the extended coverage under the previous general permits would expire with the reissuance of the new general permits. EPA has determined that the extended coverage will expire either when a facility is authorized under the new general permits or 150 days after the effective date of the new general permits, whichever is earlier.

DATES: The general permits will be effective October 2, 2000. For those facilities not seeking authorization under the new general permits, extended coverage under the previous general permits will expire on February 27, 2001.

ADDRESSES: Copies of the General Permits and Responses to Comments are available upon request. Written requests may be submitted to EPA, Region 10, 1200 Sixth Avenue OW-130, Seattle, WA 98101. Electronic requests may be mailed to: washington.audrey@epa.gov or godsey.cindi@epa.gov.

FOR FURTHER INFORMATION CONTACT: The General Permits, Fact Sheets and Response to Comments may be found on the Region 10 website at www.epa.gov/r10earth/offices/water.htm under the NPDES Permits section. Requests by telephone may be made to Audrey Washington at (206) 553-0523 or to Cindi Godsey at (907) 271-6561.

SUPPLEMENTARY INFORMATION: Executive Order 12866: The Office of Management and Budget has exempted this action from the review requirements of Executive Order 12866 pursuant to Section 6 of that order.

The state of Alaska, Department of Environmental Conservation (ADEC), has certified that the subject discharges comply with the applicable provisions of Sections 208(e), 301, 302, 306 and 307 of the Clean Water Act.

The state of Alaska, Office of Management and Budget, Division of Governmental Coordination (ADGC), has conducted a review for consistency with the Alaska Coastal Management Program (ACMP) and has agreed with EPA's determination that the general permits are consistent with the ACMP.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that this general permit, as issued, will not have a significant economic impact on a substantial number of small entities.

Dated: August 23, 2000.
Randall F. Smith,
Director, Office of Water, Region 10, U.S. Environmental Protection Agency.

[FR Doc. 00-22374 Filed 8-30-00; 8:45 am]

BILLING CODE 6560-50-P